DEPARTMENT OF THE INTERIOR

National Park Service

[NPS-WASO-NRNHL-18188; PPWOCRADI0, PCU00RP14.R50000]

National Register of Historic Places; Notification of Pending Nominations and Related Actions

Nominations for the following properties being considered for listing or related actions in the National Register were received by the National Park Service before April 18, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 26, 2015. Before including your address, phone number, email address, or other personal identifying information in your comment, you should be aware that your entire comment—including your personal identifying information—may be made publicly available at any time. While you can ask us in your comment to withhold your personal identifying information from public review, we cannot guarantee that we will be able to do so.

Dated: April 27, 2015.
J. Paul Loether,
Chief, National Register of Historic Places/National Historic Landmarks Program.

ARKANSAS

Garland County

First Lutheran Church, 1700 Central Ave., Hot Springs, 15000282

Hot Spring County

Billings—Cole House, 725 E. Page Ave., Malvern, 15000283

Izard County

Vest Cemetery, 335 Vest Cemetery Rd., Boswell, 15000284

Mississippi County

Wilson Community House, 10 Lake Dr., Wilson, 15000285

Wilson High School Gymnasium, Main & Lee Sts., Wilson, 15000286

Pulaski County

Esso Standard Oil Service Station, (Arkansas Highway History and Architecture MPS) 1600 W. 3rd St., Little Rock, 15000287

Washington County

Durst, David and Mary Margaret, House, 857 Fairview Dr., Fayetteville, 15000288

Fayetteville Fire Department Fire Station 1, 303 W. Center, Fayetteville, 15000289

Fayetteville Fire Department Fire Station 3, 4140 S. School St., Fayetteville, 15000290

Prairie Grove Airlight Outdoor Telephone Booth, SW. corner of E. Douglas and Parker Sts., Prairie Grove, 15000291

Prairie Grove Cemetery Historic Section, Bounded by Kate Smith, Buchanan, & Parks Sts., Prairie Grove, 15000292

Yell County

Grace, Dr. John, House and Hospital, 100 North Rd., Belleville, 15000293

COLORADO

Larimer County

Downtown Loveland Historic District, Roughly bounded by Railroad & Jefferson Aves., alleys between 3rd & 4th Sts. & 4th & 5th Sts., Loveland, 15000281

IOWA

Scott County

Royal Neighbors of America National Home Historic District, 4760 Rockingham Rd., Davenport, 15000294

MICHIGAN

Clinton County

Grist Mill Bridge, Dam and Mill Site, Upton Rd. from Island Rd. to Maple R., Duplain Township, 15000295

MISSISSIPPI

Grenada County

Confederate Redoubt, (Grenada MRA) Springhill Rd., Grenada, 15000296

Harrison County

East Howard Avenue Historic District, (Biloxi MPS (AD)) Roughly bounded by Dukate, Nixon, Jefferson & Holley Sts., Peyton Dr. & Comfort Pl., Biloxi, 15000297

Lameuse Street Historic District, (Biloxi MPS (AD)) Roughly Lameuse St., Biloxi, 15000301

Upper West Central Historic District, (Biloxi MPS (AD)) Roughly bounded by Hopkins Blvd., CSXRR, Iroquois, Esposito & Division Sts., Biloxi, 15000302

Montgomery County

Winona Historic District, Roughly bounded by Oakwood Cemetery, N. Applegate, Raper, Railroad, Branch & Mortimer Sts., Speedway & S. Union Aves., Winona, 15000303

MISSOURI

St. Louis Independent City

Biddle Street Market, 1211-19 N. Tucker Blvd., St. Louis (Independent City), 15000304

Bronson, Dr. George Ashe, House, 3201 Washington St., St. Louis (Independent City), 15000305

Shriners' Hospital for Crippled Children, 700-728 S. Euclid & 4565 Clayton Ave., St. Louis (Independent City), 15000306

Stouffer's Riverfront Inn, 200 S. 4th St., St. Louis (Independent City), 15000307

NEW YORK

Chemung County

Clinton—Columbia Historic District, 505-605 College Ave., 300-431 W. Clinton, 608-612 Columbia, 348-354 W. 4th & 513-602 Davis Sts., Elmira, 15000308

Kings County

Lehigh Valley Railroad Barge 79, 290 Conover St., Brooklyn, 15000309

Monroe County

Arvine Heights Historic District, 15-120 Arvine Heights, Rochester, 15000310

PUERTO RICO

Hormigueros Municipality

Casa Marquez, Segundo Ruiz Belvis 8, Hormigueros, 15000311

[FR Doc. 2015-11071 Filed 5-7-15; 8:45 am]

BILLING CODE 4312-51-P